DEPARTMENT OF STATE

[Public Notice 4478]

In the Matter of the Redesignation of the “United Self-Defense Forces of Colombia” Also Known as the “Autodefensas Unidas de Colombia” Also Known as “AUC” as a Foreign Terrorist Organization Pursuant to Section 219 of the Immigration and Nationality Act

Based upon a review of the Administrative Record assembled in this matter and in consultation with the Attorney General and the Secretary of the Treasury, the Secretary of State has concluded that there is a sufficient factual basis to find that the relevant circumstances described in section 219 of the Immigration and Nationality Act, as amended (hereinafter “INA”), continue to exist with respect to the United Self-Defense Forces of Colombia and its aliases. Therefore, effective September 10, 2003, the Secretary of State hereby redesignates that organization as a foreign terrorist organization pursuant to section 219(a) of the INA.

Dated: August 27, 2003.
William P. Pope,
Acting Coordinator for Counterterrorism, Department of State.

[FR Doc. 03-23028 Filed 9-9-03; 5:00 pm]

BILLING CODE 4710-10-P